DEPARTMENT OF ENERGY

Federal Energy Regulatory Commission

[Docket No. CP03-52-000]

Colorado Interstate Gas Company; Notice of Application

February 27, 2003.

Take notice that on February 19, 2003, Colorado Interstate Gas Company (CIG), PO Box 1087, Colorado Springs, Colorado 80944, filed in Docket No. CP03-52-000, an application pursuant to section 7(c) of the Natural Gas Act (NGA), as amended, and part 157 of the regulations of the Federal Energy Regulatory Commission (Commission), for a certificate of public convenience and necessity authorizing the construction, ownership and operation of facilities to enhance the natural gas storage injection capabilities of its Fort Morgan Gas Storage Field (Fort Morgan) located in Morgan County, Colorado, all as more fully set forth in the application which is on file with the Commission and open to public inspection. This filing is available for review at the Commission or may be viewed on the Commission's Web site at http://www.ferc.gov using the “FERRIS” link. Enter the docket number excluding the last three digits in the docket number field to access the document. For assistance, please contact FERC Online Support at FERCOnlineSupport@ferc.gov or toll-free at (866) 208-3676, or for TTY, contact (202) 502-8659.

CIG states that the proposed enhancement is necessary to satisfy the end-of-season storage field injection needs, and to provide operational flexibility to respond to customers' changing summertime usage patterns of Fort Morgan.

CIG states that it is proposing to construct and operate a 1,151 horsepower (ISO) compressor unit that will be used in staged-compression with existing compressor units. Such a unit, according to CIG, will increase the installed site horsepower to 6,551 (ISO), and the end-of-season injection capabilities by a minimum of 30 MMcf/d, with actual injection capability depending upon system operating conditions. CIG states that no increase in withdrawal capacity or total storage capacity of Fort Morgan will accompany the proposed compression addition.

CIG states that the total cost of the proposed facilities is estimated to be $2,928,500 and that CIG states that it will assume the costs associated with the proposed facilities until the next general rate case. CIG also states it is proposing rolled-in treatment for the proposed project.

Any questions concerning this application may be directed to Robert T. Tomlinson, Director, Regulatory Affairs, Colorado Interstate Gas Company, P. O. Box 1087, Colorado Springs, Colorado, 80944, at (719) 520-3788 or fax (719) 667-7534; or to Judy A. Heineman, Vice President and General Counsel, Colorado Interstate Gas Company, PO Box 1087, Colorado Springs, Colorado, 80944, at (719) 520-4829 or fax (719) 520-4898.

There are two ways to become involved in the Commission's review of this project. First, any person wishing to obtain legal status by becoming a party to the proceedings for this project should file with the Federal Energy Regulatory Commission, 888 First Street, NE., Washington, DC 20426, a motion to intervene in accordance with the requirements of the Commission's Rules of Practice and Procedure (18 CFR 385.214 or 385.211) and the Regulations under the NGA (18 CFR 157.10) by the comment date below. A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Protests and interventions may be filed electronically via the Internet in lieu of paper; see 18 CFR 385.2001(a)(1)(iii) and the instructions on the Commission's Web site under the “e-Filing” link. The Commission strongly encourages electronic filings.

If the Commission decides to set the application for a formal hearing before an Administrative Law Judge, the Commission will issue another notice describing that process. At the end of the Commission's review process, a final Commission order approving or denying a certificate will be issued.

Comment Date: March 19, 2003.

Magalie R. Salas,
Secretary.

[FR Doc. 03-5108 Filed 3-4-03; 8:45 am]

BILLING CODE 6717-01-P